DEPARTMENT OF ENERGY

Federal Energy Regulatory Commission

[Docket No. RP00-292-000]

ANR Pipeline Company; Notice of Proposed Change in FERC Gas Tariff

May 25, 2000.

Take notice that on May 19, 2000, ANR Pipeline Company (ANR) tendered for filing as part of its FERC Gas Tariff, Second Revised Volume No. 1, the following revised tariff sheet to be effective July 1, 2000.

Eighth Revised Sheet No. 70

ANR states that this filing, made in accordance with the provisions of Section 154.204 of the Commission's regulations, is to modify certain of ANR's pro forma service agreements so that discount agreements may provide for adjustments to rate components upward or downward to achieve an agreed upon overall rate as long as all rate components remain within the applicable minimum and maximum rates specified in the tariff.

ANR states that copies of the filing have been mailed to all affected customers and state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13628 Filed 5-31-00; 8:45 am]

BILLING CODE 6717-01-M